DEPARTMENT OF COMMERCE

National Oceanic and Atmospheric Administration

[I.D. 032703G]

Endangered and Threatened Species; Take of Anadromous Fish

AGENCY: National Marine Fisheries Service (NMFS), National Oceanic and Atmospheric Administration (NOAA), Commerce.

ACTION: Receipt of application for renewal of scientific research permit 1027 and request for comment.

SUMMARY: Notice is hereby given that NMFS has received an application for renewal of scientific research permit 1027 from U.S. Fish and Wildlife Service (USFWS) in Sacramento, CA. The permit would affect federally endangered Sacramento River winter-run Chinook salmon. This document serves to notify the public of the availability of the permit renewal application for review and comment.

DATES: Written comments on the permit applications must be received at the appropriate address or fax number (see ADDRESSES) no later than 5 p.m. Pacific Standard Time on May 5, 2003.

ADDRESSES: Written comments on this request should be sent to the appropriate office as indicated below. Comments may also be sent via fax to the number indicated for the request. Comments will not be accepted if su bmitted via e-mail or the Internet. The applications and related documents are available for review by appointment, for permit 1027: Protected Resources Division, NMFS, 650 Capitol Mall, Suite 8-300, Sacramento, CA 95814 (ph: 916-930-3600, fax: 916-930z6 3629). Documents may also be reviewed by appointment in the Office of Protected Resources, F/PR3, NMFS, 1315 East-West Highway, Silver Spring, MD 20910 3226 (301 713 1401).

FOR FURTHER INFORMATION CONTACT: Rosalie del Rosario at phone number 916-930-3600, or e-mail: Rosalie.delRosario@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the federally endangered Sacramento River Winter-run Chinook salmon (Oncorhynchus tshawytscha).

Applications Received

USFWS requests a renewal of permit 1027, a 5-year permit that authorized take of adult and juvenile endangered Sacramento River winter-run Chinook salmon ESU associated with artificial production and captive broodstock programs. The broodstock collection target for winter-run Chinook is 15 percent of the estimated upriver escapement, up to a maximum of 120 natural-origin winter-run Chinook broodstock per brood year (i.e., run sizes >800). In that effort, up to 400 winter-run Chinook may be captured annually and the remaining 280 adults will be tagged and returned to the Sacramento River to spawn naturally. To maintain genetic diversity, no fewer than 20 adults will be taken for the broodstock collection regardless of run size (i.e., run sizes <135). Based on three years of trapping data (e.g., 2000-2002), mortality is expected to be <2 percent of total captured, and pre-spawning mortality is expected to be <10 percent of 120 fish retained for spawning. To minimize potential negative effects resulting from natural selection in the hatchery (i.e., domestication), the number of hatchery-origin winter-run Chinook incorporated as broodstock will not exceed 10 percent of the total number of winter-run Chinook spawned (not including captive broodstock crosses). No more than 250,000 pre-smolt winter-run Chinook will be released annually. Post-release contribution potential of progeny derived from captive broodstock adults that were reared to maturity is also being evaluated. The effects of the artificial production and captive broodstock programs on federally threatened Central Valley spring-run Chinook salmon and threatened Central Valley steelhead are being considered under ESA section 7 interagency consultation on Coleman National Fish Hatchery and Livingston Stone National Fish Hatchery actions.

Dated: March 28, 2003.
Phil Williams,
Chief, Endangered Species Division,Office of Protected Resources, National Marine Fisheries Service.

[FR Doc. 03-8121 Filed 4-2-03; 8:45 am]

BILLING CODE 3510-22-S